DEPARTMENT OF TRANSPORTATION

Federal Aviation Administration

14 CFR Part 39

[Docket No. FAA-2012-0927; Directorate Identifier 2012-SW-052-AD; Amendment 39-17178; AD 2012-18-02]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model AB412 and AB412 EP helicopters with certain hoist hook assemblies (hook) installed. This AD requires inspecting the hook for correct assembly of the nut and body. This AD is prompted by a report that a hook separated from the cable of a helicopter. These actions are intended to prevent detachment of the hook from the helicopter and subsequent loss of an external load, possibly resulting in personal injury.

DATES: This AD becomes effective September 26, 2012.

The Director of the Federal Register approved the incorporation by reference of certain documents listed in this AD as of September 26, 2012.

We must receive comments on this AD by November 13, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, any comments received, and other information. The street address for the Docket Operations Office (telephone 800-647-5527) is in the ADDRESSES section. Comments will be available in the AD docket shortly after receipt.

For service information identified in this AD, contact Agusta Westland, Customer Support & Services, Via per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, Texas 76137; telephone (817) 222 5110; email sharon.y.miles@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA AD No. 2012-0086-E, dated May 18, 2012 (EASA AD 2012-0086-E), to correct an unsafe condition for Agusta Model AB412 and AB412EP helicopters. EASA advises of a report where a hoist hook separated from an AB412 helicopter. EASA states the initial investigation revealed that the nut and housing hook were not properly assembled. According to EASA, this condition could lead to separation of the hook and detachment of an external load from the hoist, resulting in personal injury or damage to property on the ground. For these reasons, EASA issued EASA AD 2012-0086-E to require inspecting the hook before the next flight, and after every subsequent reassembly of the hook.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

We reviewed AgustaWestland Bollettino Tecnico (BT) No. 412-132, dated May 2, 2012, and BT No. 412-133, dated May 17, 2012, which describe procedures for inspecting the nut and housing hook to determine whether the two locking screws are inserted into the slot of the housing. Both BTs also describe procedures for assembling the hook if the nut and body are not properly aligned.

AD Requirements

This AD requires, before further flight, and after any reassembly of the hook:

• Inspecting the nut and housing hook to determine whether the two locking screws are inserted into the slot of the housing.

• Correcting the assembly, before further flight, if the locking screws are not properly inserted in the slots of the housing.

Costs of Compliance

There are no costs of compliance with this AD because there are no helicopters with this type certificate on the U.S. Registry.

FAA's Justification and Determination of the Effective Date

There are no helicopters with this type certificate on the U.S. Registry. Therefore, we believe it is unlikely that we will receive any adverse comments or useful information about this AD from U.S. Operators.

Since an unsafe condition exists that requires the immediate adoption of this AD, we determined that notice and opportunity for public comment before issuing this AD are unnecessary because there are none of these products on the U.S. Registry.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-18-02 AGUSTA S.P.A.: Amendment 39-17178; Docket No. FAA-2012-0927; Directorate Identifier 2012-SW-052-AD.

(a) Applicability

(1) This AD applies to Model AB412 and AB412EP helicopters with:

(i) Hoist part-number (P/N) 412-8800-01-202 (Breeze Eastern P/N BL-20200-402) or P/N 412-8800-01-412 (Breeze Eastern P/N BL-20200-412), with a hook assembly (hook) P/N HK-118-2 installed; or

(ii) Hoist P/N BL-20200-75 (Breeze Eastern) or P/N BL-20200-95 (Breeze Eastern), with a hook P/N BL-5740-8 installed, certificated in any category.

(b) Unsafe Condition

This AD defines the unsafe condition as the hook body locking screws not properly inserted into the slot on the housing, which could result in detachment of the hook and subsequent loss of an external load or person from the helicopter hoist.

(c) Effective Date

This AD becomes effective September 26, 2012.

(d) Compliance

You are responsible for performing each action required by this AD within the specified compliance time unless it has already been accomplished prior to that time.

(e) Required Actions

(1) For hook, P/N HK-118-2, before further flight, and thereafter after every disassembly and reassembly of the hook, inspect the hook for correct assembly of the nut and housing hook by doing the following.

(i) Using a .5 millimeter (mm) thickness feeler gauge, position the feeler gauge on the handwheel as shown in Figure 2 of AgustaWestland Bollettino Tecnico (BT) No. 412-132, dated May 2, 2012 (BT 412-132).

(ii) If feeler gauge cannot be inserted, the nut and housing are correctly assembled.

(iii) If feeler gauge can be inserted, as shown in Figure 3 of BT 412-132, reassemble the hook by following the Accomplishment Instructions, paragraphs 5 through 20, and figures 4 and 5, of BT 412-132.

(2) For hook, P/N BL-5740-8, before further flight, and thereafter after every disassembly and reassembly of the hook, inspect the hook for correct assembly of the nut and body by doing the following.

(i) Pull down the rubber bumper to expose the body and setscrews.

(ii) Determine if the two setscrews are inserted in the two slots as shown in Figure 2 of AgustaWestland BT No. 412-133, dated May 17, 2012 (BT 412-133).

(iii) If the setscrews are inserted in the slots, the nut and body are correctly assembled. Return the rubber bumper to its proper position.

(iv) If the two setscrews are not inserted in the slots, as shown in Figure 3 of BT 412-133, reassemble the hook by following the Accomplishment Instructions, paragraphs 5 through 20, and figures 4 and 5, of BT 412-133.

(f) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, Texas 76137; telephone (817) 222 5110; email sharon.y.miles@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) The subject of this AD is addressed in European Aviation Safety Agency AD No. 2012-0086-E, dated May 18, 2012.

(h) Subject

Joint Aircraft Service Component (JASC) Code: 2550: External Load Handling Equipment.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) AgustaWestland Bollettino Tecnico No. 412-132, dated May 2, 2012.

(ii) AgustaWestland Bollettino Tecnico No. 412-133, dated May 17, 2012.

(3) For AgustaWestland service information identified in this AD, contact AgustaWestland, Customer Support & Services, Via Per Tornavento 15, 21019 Somma Lombardo (VA) Italy, ATTN: Giovanni Cecchelli; telephone 39-0331-711133; fax 39 0331 711180; or at http://www.agustawestland.com/technical-bullettins.

(4) You may view this service information at the FAA, Office of the Regional Counsel, Southwest Region, 2601 Meacham Blvd., Room 663, Fort Worth, Texas 76137.

(5) You may also view this service information at the National Archives and Records Administration (NARA). For information on the availability of this material at NARA, call (202) 741-6030, or go to: http://www.archives.gov/federal_register/code_of_federal_regulations/ibr_locations.html

Issued in Fort Worth, Texas, on August 28, 2012.
Lance T. Gant,
Acting Manager, Rotorcraft Directorate, Aircraft Certification Service.

[FR Doc. 2012-21722 Filed 9-10-12; 8:45 am]

BILLING CODE 4910-13-P